DEPARTMENT OF TRANSPORTATION

Federal Aviation Administration

14 CFR Part 71

[Docket No. FAA 2006-26031, Airspace Docket No. 06-ANE-02]

Establishment of Class E Airspace; Bethel Regional Airport, ME

AGENCY: Federal Aviation Administration (FAA), DOT.

ACTION: Direct final rule; confirmation of effective date and correction.

SUMMARY: This action confirms the effective date of a direct final rule that established the Class E airspace area at Bethel Regional Airport, Bethel ME (K0B1) to provide for adequate controlled airspace for those aircraft using the new Helicopter Area Navigation (RNAV), 317 Instrument Approach procedure to the Airport. This action also corrects a transposition error and editorial omission that appeared in the airspace description contained in the final rule that was published on Thursday, October 26, 2006.

DATES: Effective Date: 0901 UTC, January 18, 2007.

FOR FURTHER INFORMATION CONTACT: Mark D. Ward, Manager, Systems Support Group, AJO-2E2, FAA Eastern Service Center, 1701 Columbia Ave., College Park, GA 30337; telephone (404) 305-5586; fax (404) 305-5099.

SUPPLEMENTARY INFORMATION:

Confirmation of Effective Date

The FAA published this direct final rule with a request for comments in the Federal Register on October 26, 2006 (71 FR 62554). The FAA uses the direct final rulemaking procedure for a non-controversial rule where the FAA believes that there will be no adverse public comment. This direct final rule advised the public that no adverse comments were anticipated, and that unless a written adverse comment, or a written notice of intent to submit such an adverse comment, were received within the comment period, the regulation would become effective on January 18, 2007. No adverse comments were received, and thus this notice confirms that this direct final rule will become effective on that date.

Correction to Final Rule

In the description of the airspace contained in the direct final rule, the FAA transposed the airport name with the name of the city in the title line. In addition, the FAA has added the words “point in space” to the longitude and latitude coordinates associated with this airport. This action makes these editorial corrections, which do not change the airspace configuration. The FAA is republishing the entire airspace description.

Accordingly, pursuant to the authority delegated to me, the airspace published in the Federal Register, Thursday, October 26, 2006 (71 FR 62554) (FR Doc. 06-26031, Airspace Docket No. 06-ANE-02, page 62552, all references to Bethel Regional Airport, ME are corrected as follows:

§ 71.1 [Corrected]

* * * * *

ANE ME E5 Bethel, ME [New]

Bethel Regional Airport, ME

Point in Space Coordinates

(Lat. 44°23′30.6″ N., long. 70°48′35.7″ W.)

That airspace extending upward from 700 feet above the surface within a 6.0-mile radius of Bethel Regional Airport, ME.

Issued in College Park, GA on December 21, 2006.
Mark D. Ward,
Manager, System Support Group, AJO-2E2, Eastern Service Center.

[FR Doc. 07-32 Filed 1-10-07; 8:45 am]

BILLING CODE 4910-13-M